DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Pacific Coast Groundfish Fishery Rationalization Social Study.

OMB Control Number: 0648-0606.

Form Number(s): None.

Type of Request: Regular (extension of an existing collection).

Number of Respondents: 410.

Average Hours per Response: 1.

Burden Hours: 127.

Needs and Uses: NOAA Fisheries needs to comply with legal requirements in the Magnuson Stevens Conservation and Management Act (MSA), the National Environmental Policy Act (NEPA), Executive Order 12898, and the Regulatory Flexibility Act to account for the sustained participation and the impacts of individuals and fishing communities participating in the use of marine resources and fishing activities. In order to fully understand the impacts of fisheries management actions on participating individuals and communities, it is necessary to communicate with them, and maintain a regular standard of monitoring. This is accomplished through surveys to see if any impacts that have been identified have changed or been addressed. This survey identifies sociocultural impacts of the catch shares program, which extends beyond income and fishing indicators, and identifies quality of life and family impacts that can be directly attributed to changes in behaviors related to fishing regulations. Survey participants are able to communicate their successes and concerns. New data collections are compared to past data collections to measure change over time as well as identify new trends occurring in the fishery. Information obtained through this study informs fisheries managers, is utilized in management reviews, is communicated back to the end users, and is made available to the public. This data collection also complies with the aforementioned legal requirements, and greatly increases our knowledge of fishing communities.

Affected Public: Individuals or Households; Business or other for-profit organizations.

Frequency: Once every 5 years.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2019-26925 Filed 12-12-19; 8:45 am]

BILLING CODE 3510-22-P